DEPARTMENT OF TRANSPORTATION

Federal Aviation Administration

14 CFR Parts 1, 23, 25, 91, 121, 125, 135, and 139

[Docket No. FAA-2007-0152]

Takeoff/Landing Performance Assessment Aviation Rulemaking Committee

AGENCY: Federal Aviation Administration.

ACTION: Notice and request for comments and participation.

SUMMARY: By this notice, the Federal Aviation Administration (FAA) announces the formation of an Aviation Rulemaking Committee to review regulations affecting certification and operation of airplanes and airports for airplane takeoff and landing operations on runways contaminated by snow, slush, ice, or standing water. This review may also encompass related portions of other regulations, as appropriate, and harmonization with other foreign aviation regulations. To get a copy of the Order that established this Aviation Rulemaking Committee go to; http://www.faa.gov/about/committees/rulemaking/. The FAA will establish a Takeoff/Landing Performance Assessment Aviation Rulemaking Committee to conduct this review and provide advice and recommendations to:

a. Establish airplane certification and operational requirements (including training) for takeoff and landing operations on contaminated runways.

b. Establish landing distance assessment requirements, including minimum landing distance safety margins, to be performed at the time of arrival.

c. Establish standards for runway surface condition reporting and minimum surface conditions for continued operations.

The FAA invites persons interested in serving on this committee or work groups to request membership in accordance with this notice. The FAA will select members to provide a balance of viewpoints, interests, and expertise. The subjects of the committee meetings will be highly technical and therefore require participants to have significant education background, technical background, and/or work experience for the committee to have the maximum benefit. Membership on the committee will be limited to facilitate discussions and to maintain a balance of interests.

In addition, the FAA invites interested persons to submit specific, detailed written comments, or provide input on the affected regulatory sections. These comments will be considered in the committee discussions and will assist in determining future regulatory action.

DATES: Membership: Persons interested in participating on the committee or work groups should submit their request on or before January 7, 2008. Selected members will be advised in writing of their participation and meeting details.

Comments: The FAA will consider all comments on this regulatory review filed on or before February 4, 2008. We will consider comments filed late if it is possible to do so without incurring expense or delay.

ADDRESSES: Membership: Persons requesting membership or participation on the Takeoff/Landing Performance Assessment Aviation Rulemaking Committee and/or associated work groups should make the request and supply the requested information via email to the person listed below under FOR FURTHER INFORMATION CONTACT.

Send comments identified by Docket Number using any of the following methods:

• Federal eRulemaking Portal: Go to http://www.regulations.gov and follow the online instructions for sending your comments electronically.

• Mail: Send comments to Docket Operations, M-30; U.S. Department of Transportation, 1200 New Jersey Avenue, SE., Room W12-140, West Building Ground Floor, Washington, DC 20590-0001.

• Hand Delivery or Courier: Bring comments to Docket Operations in Room W12-140 of the West Building Ground Floor at 1200 New Jersey Avenue, SE., Washington, DC, between 9 a.m. and 5 p.m., Monday through Friday, except Federal holidays.

• Fax: Fax comments to Docket Operations at 202-493-2251.

FOR FURTHER INFORMATION CONTACT: Mr. Jerry Ostronic, AFS-200, 800 Independence Ave., SW., Washington, DC 20591, e-mail: Jerry.C.Ostronic@FAA.gov, telephone: (412) 262-9034 Ext. 301, facsimile: (202) 267-5229.

SUPPLEMENTARY INFORMATION:

Background

The Takeoff/Landing Performance Assessment ARC will provide a forum for the U.S. aviation community to discuss incorporating the recommended actions identified in Safety Alert for Operators (SAFO) 06012 into the regulatory requirements. Additionally, adding regulatory requirements for takeoff operations from contaminated runways and issues related to contaminated runway takeoff and landing operations relevant to part 139, Certification of Airports, will be discussed. These discussions will be focused on turbine powered aircraft including both turbojet and turboprop airplanes operated under parts 121, 135, 125, and 91 subpart K.

Public Participation in the Aviation Rulemaking Committee

Membership. The FAA invites members of the public to serve on the Takeoff/Landing Performance Assessment Aviation Rulemaking Committee and/or work groups. The committee will provide advice and recommendations to the FAA to assist the agency in establishing a regulatory framework that will address the added risk associated with takeoff and landing operations on runways with various forms of contamination. The committee acts solely in an advisory capacity. The committee will discuss and present whatever input, guidance, and recommendations it considers relevant.

Because of the diversity and complexities of the Takeoff/Landing Performance Assessment Aviation Rulemaking Committee issues, the committee will be structured with a steering committee and specialized work groups. The steering committee will consist of members selected by the FAA representing aviation associations, industry representatives, employee groups, FAA and other government entities, and other participants to provide a balance of views, interests, and expertise. Membership on the steering committee will be limited to facilitate discussions. Priority will be given to those applicants representing an identified part of the aviation community who are empowered to speak for those interests.

Additional participation is provided through the specialized work groups. At this time, the FAA is considering the establishment of work groups comprised of subject matter experts in the following subject areas:

—14 CFR Part 25; Airplane Certification Takeoff and Landing Performance

—14 CFR Part 23; Airplane Certification Takeoff and Landing Performance

—14 CFR Part 121; Operations and training associated with takeoff and landing performance

—14 CFR Parts 135, 125, and 91 Subpart K; Operations and training associated with takeoff and landing performance

—14 CFR 139; Airport Certification and Operations

—Current and new technologies for reporting and disseminating aircraft stopping capabilities on contaminated runways

—Other work groups may be established if required.

All non-government representatives serve without government compensation and bear all costs related to their participation on the steering committee or work groups. Members and participants should be available to attend all scheduled committee or work group meetings for the duration of the review. Make your request to participate on the steering committee or specialized work groups in writing on or before January 7, 2008. If wishing to participate on the Takeoff/Landing Performance Assessment Aviation Rulemaking Committee or its workgroups, please provide the following information (preferably by e-mail):

Name:

Title:

Segment(s) of the industry or organization /association you represent:

Organization Representing:

Address:

E-mail address:

Telephone contact information:

Specific area(s) of the committee in which you are interested in participating:

Description of your education, technical background, and/or work experience in the area of the committee in which you would like to participate:

Number of hours you will be available to participate in committee work per month in the first 90 days of the committee; in the first year; and beyond the first year, if necessary; and

Number of days per month that you are available and have the financial capability to travel for committee activities.

The FAA will notify all selected members and participants in writing in advance of the first meeting.

Comments. As noted above, persons wishing to comment on this subject may do so until February 4, 2008. In order to provide information to the committee, the FAA requests that commenters be timely in their comments.

Commenters should be as specific as possible and provide as much detail in comments as necessary to facilitate regulatory decision making. Comments should address the specific section of the regulation at issue, a detailed explanation of what needs to be changed and why, and the proposed regulatory change. Information on costs and benefits of the proposed change are particularly helpful.

Comments provided in response to this notice will assist the FAA and committee in their review and deliberation.

Pamela Hamilton-Powell,
Director, Office of Rulemaking.

[FR Doc. E7-23740 Filed 12-5-07; 8:45 am]

BILLING CODE 4910-13-P